DEPARTMENT OF HEALTH AND HUMAN SERVICES

Administration for Community Living

Agency Information Collection Activities; Proposed Collection; Comment Request; National Adult Maltreatment Reporting System; [OMB# 0985-0054]

AGENCY: Administration for Community Living (ACL), HHS.

ACTION: Notice.

SUMMARY: The Administration for Community Living is announcing that the proposed collection of information listed above has been submitted to the Office of Management and Budget (OMB) for review and clearance as required under the Paperwork Reduction Act of 1995. This 30-Day notice collects comments on the information collection requirements related to an extension without change and solicits comments on the information collection requirements relating to the National Adult Maltreatment Reporting System (NAMRS).

DATES: Submit written comments on the collection of information by March 27, 2020.

ADDRESSES: Submit written comments on the collection of information by:

(a) Email to: OIRA_submission@omb.eop.gov, Attn: OMB Desk Officer for ACL;

(b) fax to 202.395.5806, Attn: OMB Desk Officer for ACL; or

(c) by mail to the Office of Information and Regulatory Affairs, OMB, New Executive Office Bldg., 725 17th St. NW, Rm. 10235, Washington, DC 20503, Attn: OMB Desk Officer for ACL.

FOR FURTHER INFORMATION CONTACT: Stephanie Whittier Eliason, Administration for Community Living, Washington, DC 20201, at 202-795-7467 or Stephanie.WhittierEliason@acl.hhs.gov.

SUPPLEMENTARY INFORMATION: In compliance with 44 U.S.C. 3507, ACL has submitted the following proposed collection of information to OMB for review and clearance. The National Adult Maltreatment Reporting System authorized under the Elder Justice Act of 2009, which amends Title XX of the Social Security Act [42.U.S.C. 13976 et seq.], requires that the Secretary of the U.S. Department of Health and Human Services “collects and disseminates data annually relating to the abuse, exploitation, and neglect of elders in coordination with the Department of Justice” [Sec. 2041 (a)(1)(B)] and “conducts research related to the provision of adult protective services” [Sec. 2041 (a)(1)(D)].

The Elder Justice Coordinating Council (EJCC) recommended development of “a national adult protective services (APS) system based upon standardized data collection and a core set of service provision standards and best practices.”

NAMRS is a voluntary system that has been annually collecting since FFY2016 both summary and de-identified case-level data on APS investigations submitted by states. NAMRS consists of three components:

(1) ACL proposes to collect descriptive data on state agency and practices from all states through the “Agency Component,” and

(2) Case-level, non-identifiable data on persons who receive an investigation by APS in response to an allegation of abuse, neglect, or exploitation through “Case Component”, or

(3) For states that are unable to submit a case-level file through the “Case Component,” a “Key Indicators Component” will be available for them to submit data on a smaller set of core items.

ACL provides technical assistance to states to assist in the preparation of their data submissions. Respondents are state APS agencies and APS agencies in the District of Columbia, Puerto Rico, Guam, Northern Mariana Islands, Virgin Islands, and American Samoa (states, hereafter). No personally identifiable information is collected. The proposed form(s) may be found on the ACL website at https://www.acl.gov/about-acl/public-input.

Estimated Program Burden

ACL estimates the burden associated with this collection of information as follows: 56 States will respond every year. It will take approximately 4 hours for all 56 states to respond to the Agency Component, 20 hours for 17 states to respond to the Key Indicator Component, and 100 hours for 35 states to respond to the Case Component. The total annual burden is estimated to be 4,164 hours. The estimates are based on the amount of time States have previously reported in completing the data collection instruments; continued increase in the number of states reporting on Case Component and Key Indicator Component data; and assumption of modest incremental efficiencies by States in reporting data to NAMRS every year, including, most significantly, minimal need to recode to extract data after the initial year.

Respondent/data collection activity | Number of respondents | Responses per respondent | Hours per response | Annual burden hours
Agency Component | 56 | 1 | 4 | 224
Key Indicators Component | 17 | 1 | 20 | 340
Case Component | 36 | 1 | 100 | 3,600
Total |  |  |  | 4,164

Dated: February 19, 2020.
Mary Lazare,
Principal Deputy Administrator.

[FR Doc. 2020-03842 Filed 2-25-20; 8:45 am]

BILLING CODE 4154-01-P